DEPARTMENT OF EDUCATION

Applications for New Awards; Investing in Innovation Fund, Development Grants

AGENCY: Office of Innovation and Improvement, Department of Education.

ACTION: Notice.

Overview Information

Investing in Innovation Fund, Development grants Notice inviting applications for new awards for fiscal year (FY) 2013.

Catalog of Federal Domestic Assistance (CFDA) Numbers:

84.411P (Development grants Pre-Application).

84.411C (Development grants Full Application).

Note: In order to receive an Investing in Innovation Fund (i3) Development grant, an entity must submit a pre-application. The pre-application is intended to reduce the burden of submitting a full i3 application. Pre-applications will be reviewed and scored by peer reviewers using the selection criteria designated in this notice. Entities that submit a highly rated pre-application will be invited to submit a full i3 application; other pre-applicants may choose to do so.

DATES: Pre-Applications Available: March 29, 2013.

Deadline for Notice of Intent to Submit Pre-Application: April 16, 2013.

Deadline for Transmittal of Pre-Applications: April 26, 2013.

Full Applications Available: If you are invited to submit a full application, we will transmit the full application package and instructions using the contact information you provide to us. Other pre-applicants who choose to submit a full application may request the full application package and instructions from the Department.

Deadline for Transmittal of Full Applications: Entities that submit a highly rated pre-application as scored by peer reviewers and as identified by the Department will be invited to submit a full i3 application. Other pre-applicants may choose to submit a full application. The Department will announce on its Web site the deadline date for transmission of full applications and will also communicate this deadline to applicants in the full application package and instructions.

Deadline for Intergovernmental Review: 60 calendar days after the deadline date for transmittal of full applications.

Full Text of Announcement

I. Funding Opportunity Description

Purpose of Program: The Investing in Innovation Fund (i3), established under section 14007 of the American Recovery and Reinvestment Act of 2009 (ARRA), provides funding to support (1) local educational agencies (LEAs), and (2) nonprofit organizations in partnership with (a) one or more LEAs or (b) a consortium of schools. The i3 program is designed to generate and validate solutions to persistent educational challenges and to support the expansion of effective solutions across the country to serve substantially larger numbers of students. The central design element of the i3 program is its multi-tier structure that links the amount of funding that an applicant may receive to the quality of the evidence supporting the efficacy of the proposed project. Applicants proposing practices supported by limited evidence can receive relatively small grants that support the development and initial evaluation of promising practices and help to identify new solutions to pressing challenges; applicants proposing practices supported by evidence from rigorous evaluations, such as large randomized controlled trials, can receive sizable grants to support expansion across the Nation. This structure provides incentives for applicants to build evidence of effectiveness of their proposed projects and to address the barriers to serving more students across schools, districts, and States so that applicants can compete for more sizeable grants.

As importantly, all i3 projects are required to generate additional evidence of effectiveness. All i3 grantees must use part of their budgets to conduct independent evaluations (as defined in this notice) of their projects. This ensures that projects funded under the i3 program contribute significantly to improving the information available to practitioners and policymakers about which practices work, for which types of students, and in what contexts.

The Department awards three types of grants under this program: “Development” grants, “Validation” grants, and “Scale-up” grants. These grants differ in terms of the level of prior evidence of effectiveness required for consideration of funding, the level of scale the funded project should reach, and consequently the amount of funding available to support the project.

Development grants provide funding to support the development or testing of practices that are supported by evidence of promise (as defined in this notice) or strong theory (as defined in this notice) and whose efficacy should be systematically studied. Development grants will support new or substantially more effective practices for addressing widely shared challenges. Development projects are novel and significant nationally, not projects that simply implement existing practices in additional locations or support needs that are primarily local in nature. All Development grantees must evaluate the effectiveness of the project at the level of scale proposed in the application.

This notice invites applications for Development grants only. The Department anticipates publishing notices inviting applications for the other types of i3 grants (Validation and Scale-up grants) in the spring of 2013.

We remind LEAs of the continuing applicability of the provisions of the Individuals with Disabilities Education Act (IDEA) for students who may be served under i3 grants. Any grants in which LEAs participate must be consistent with the rights, protections, and processes established under IDEA for students who are receiving special education and related services or are in the process of being evaluated to determine their eligibility for such services.

As described later in this notice, in connection with making competitive grant awards, an applicant is required, as a condition of receiving assistance under this program, to make civil rights assurances, including an assurance that its program or activity will comply with Section 504 of the Rehabilitation Act of 1973 and the Department's section 504 implementing regulations, which prohibit discrimination on the basis of disability. Regardless of whether a student with disabilities is specifically targeted as a “high-need student” (as defined in this notice) in a particular grant application, recipients are required to comply with all legal nondiscrimination requirements, including, but not limited to the obligation to ensure that students with disabilities are not denied access to the benefits of the recipient's program because of their disability. The Department also enforces Title II of the Americans with Disabilities Act (ADA), as well as the regulations implementing Title II of the ADA, which prohibit discrimination on the basis of disability by public entities.

Furthermore, Title VI of the Civil Rights Act of 1964 prohibits discrimination on the basis of race, color, and national origin. On December 2, 2011, the Departments of Education and Justice jointly issued guidance that explains how educational institutions can promote student diversity or avoid racial isolation within the framework of Title VI (e.g., through consideration of the racial demographics of neighborhoods when drawing assignment zones for schools or through targeted recruiting efforts). The “Guidance on the Voluntary Use of Race to Achieve Diversity and Avoid Racial Isolation in Elementary and Secondary Schools” is available on the Department's Web site at www.ed.gov/ocr/docs/guidance-ese-201111.pdf.

Background: The FY 2013 i3 Development competition incorporates lessons learned from prior i3 competitions. As such, it includes several changes from prior i3 competitions that prospective applicants should note. These changes reflect the recently revised i3 program design, as described in the final priorities, requirements, definitions, and selection criteria for this program (2013 i3 NFP), published elsewhere in this issue of the Federal Register.

In the 2013 i3 NFP, the Department redesigned key aspects of the i3 program to improve the FY 2013 and future i3 competitions by accelerating the identification of promising solutions to pressing challenges in K-12 public education, supporting the evaluation of the efficacy of such solutions, and developing new approaches to scaling effective practices to serve more students.

One example of the various changes we established in the 2013 i3 NFP pertains to the breadth and specificity of the potential priorities for a given i3 competition. Specifically, the 2013 i3 NFP includes 11 priorities representing a range of education topics that the Secretary may select from when establishing the priorities for an i3 competition for a given year. Although the Department has used broad priorities in the past, the 2013 i3 NFP includes subparts under each priority that target specific needs. These subparts facilitate the i3 program's goal of building a portfolio of solutions and corresponding evidence regarding different approaches to addressing critical challenges in public education. When selecting the priorities for a given competition, the Department considers several factors, including the Department's policy priorities, the need for new solutions in a particular priority area, other available funding for a particular priority area, and the results and lessons learned from prior i3 competitions.

We include eight absolute priorities in the FY 2013 Development competition. Under each, we identify subparts to which applicants must select from in order to meet the absolute priority.

First, we include the priority on improving the effectiveness of teachers or principals, because these activities are integral to the Department's mission. To support the Department's broader equity agenda, we include a subpart under this priority that encourages applicants to implement models designed to increase the equitable access to effective teachers or principals for low-income and high-need students. We also include a subpart that encourages applicants to implement projects that extend highly effective teachers' reach to allow effective teachers to serve more students. Both subparts provide the opportunity for applicants to change operating conditions within schools and districts in ways that are consistent with the Department's policy goals for professionalizing teaching and improving outcomes for high-need students. Both subparts also provide the opportunity to contribute to i3's aim of supporting increased efficiencies at the school and district levels.

Second, we include a priority addressing the pressing need for activities that accelerate the improved performance of low-performing schools to ensure that all students receive a quality K-12 education. Under this priority, we include a subpart to support projects that recruit, develop, or retain highly effective staff, specifically teachers, principals, or instructional leaders, to work in low-performing schools. We include this subpart because building the pool of talented educators—both teachers and principals—who are well prepared for, and committed to, school turnaround efforts complements other school turnaround efforts of the Department. We believe that having more educators who are well prepared for, and committed to, school turnaround efforts could significantly accelerate the Nation's overall efforts to transform low-performing schools. We also include a subpart for the implementation of programs, supports, or other strategies that improve students' non-cognitive abilities (e.g., motivation, persistence, or resilience) and enhance student engagement in learning. An emerging body of research suggests that non-cognitive abilities and engagement can bolster efforts to improve academic outcomes, particularly for high-need students. Although both of these subparts address challenges encountered by many schools, we consider them particularly acute in low-performing schools.

Third, we include a priority on science, technology, engineering, and mathematics (STEM) education. Ensuring that all students can access coursework and can excel in STEM fields is essential to our Nation's economy and future prosperity. Under this priority, we include one subpart that focuses on redesigning STEM course content and instructional practices to engage students and increase student achievement. To date, the STEM projects funded by the i3 program have not focused on redesigning STEM course content. We consider STEM course redesign, particularly at the secondary level, to be a key policy priority that may significantly improve STEM outcomes.

Fourth, we include a priority on improving academic outcomes for students with disabilities. Specifically, we include a subpart that addresses the growing need for designing and implementing teacher evaluation systems that both define and measure the effectiveness of teachers of students with disabilities and related service providers. Given that many States are in the process of implementing their own statewide teacher evaluation systems, we are concerned that there are limited ways to effectively, reliably, and meaningfully integrate teachers of students with disabilities and related service providers into evaluation systems. We also include a subpart for applicants to design and implement strategies that improve student achievement for students with disabilities in inclusive settings or general education programs. To date, the i3 program has not funded projects in this area. We believe it is essential to develop and promote effective approaches for ensuring that students with disabilities are provided opportunities to participate and progress in inclusive and general education settings. In particular, recent data on the prevalence of exclusionary school discipline policies suggests that new models supporting students' transition to inclusive settings are needed. While the negative effects of exclusionary school discipline policies are not confined to students with disabilities, this program is particularly focused on the potential effect on these students.

Fifth, we include a priority on improving academic outcomes for English learners (ELs). School districts across the country are experiencing increases in the enrollment of students who cannot speak, read, or write English well enough to participate meaningfully in educational programs and who therefore need specialized support services. Too often, these students' English language needs are not met, thereby inhibiting them from the achieving the academic outcomes of which they are capable. This issue is particularly acute for ELs at the middle- and high-school levels. To address this concern, we include a subpart that focuses on projects that align the curriculum and instruction to be used in grades 6-12 that are necessary for preparing ELs to be college-and career-ready.

Sixth, we include a priority on improving parent and family engagement. Parents and families are instrumental to their children's academic success, but the Department has few programs that provide direct funding for projects that enable parents and families to take on an active role in improving their children's academic performance. Under this priority, we include a subpart for projects that provide parents and families the skills and strategies that increase student engagement and improve student outcomes. This subpart is consistent with the Department's new parent engagement framework.¹ We also include a second subpart for projects that provide students and parents with improved and ongoing access to data about students' progress and performance. As schools enhance their ability to collect and analyze student-level data to inform student- and school-level decisions, sharing these types of data can be a powerful way to involve parents in their children's academic success. The Department expects that projects funded under this subpart will produce new approaches for sharing this type of information with parents and families in ways that meaningfully engage them in the school's mission and their children's success.

¹ www.ed.gov/blog/wp-content/uploads/2012/12/Family_Engagement_DRAFT_Framework.pdf.

Seventh, we include a priority on the effective use of technology. The Department's National Education Technology Plan 2010 ² highlighted the potential of “connected teaching” that makes it possible to extend the reach of the most effective teachers by using online tools. The National Education Technology Plan 2010 also highlighted the need for high-quality learning resources that can reach learners wherever and whenever they are needed. To support these efforts, we include two subparts under this priority that focus on projects that improve the access to and use of learning experiences that are personalized and self-improving, and on projects that develop and implement technology-enabled strategies for teaching and learning concepts that are difficult to teach using traditional approaches. For both of these subparts, we are particularly interested in supporting projects that use technology to meet students' diverse learning needs.

² www.ed.gov/technology/netp-2010.

Finally, we include a priority that focuses on serving rural communities. Prior i3 competitions, as well as other Department programs, have demonstrated that rural areas confront a plethora of challenges as they work to provide a high-quality education for all students. Under this year's competition, applicants applying under this priority must address one of the other seven absolute priorities for the FY 2013 i3 Development competition, as described above, while serving students enrolled in rural LEAs. In addition to the changes to the priorities, the 2013 i3 NFP also modifies aspects of the i3 program's requirements, definitions, and selection criteria. In general, these changes improve clarity and strengthen the requirements and design aspects of the i3 program. Most notably, we have clarified that all i3 grantees must implement practices that serve students who are in grades K-12 at some point during the funding period. Further, we have revised the evidence standards and definitions so that applicants can better understand what is required to meet each level of evidence. For the FY 2013 Development competition, applicants must identify the evidence standard under which they are submitting their applications (i.e., evidence of promise or strong theory). Applicants should review the requirements section of this notice for instructions on how to identify the evidence standard under which they are submitting their applications, as well as for information on the other eligibility and program requirements.

The i3 program includes a statutory requirement for a private-sector match for all i3 grantees. Based on feedback from previous i3 applicants, we are modifying the process for applicants to secure, and demonstrate evidence of, the required private-sector match for the FY 2013 i3 competition. While an applicant must secure 15 percent of its Federal grant award to be eligible for an i3 Development grant, the timeframe in which an applicant must secure and submit evidence of the required private-sector matching funds has been expanded. In the past, the highest-rated applicants had only approximately 30 days to secure 100 percent of their required matches and become grantees, which proved difficult for both applicants and potential private-sector funders. While all of the past highest-rated i3 applicants successfully secured their private-sector matches, the Department is eager to improve the matching process to facilitate deeper public-private partnerships. Therefore, for the FY 2013 i3 competition, each highest-rated applicant, as identified by the Department following peer review of full applications, must submit evidence of 50 percent of the required private-sector match prior to the awarding of an i3 grant. An applicant must provide evidence of the remaining 50 percent of the required private-sector match no later than six months after the project start date (i.e., 6 months after January 1, 2014, or by July 1, 2014). The grant will be terminated if the grantee does not secure its private-sector match by the established deadline. By decreasing the amount of the required match that must be secured before the i3 award can be made, the burden for both applicants and private-sector funders will be reduced, which in turn will foster improved collaboration.

This notice also includes selection criteria that are designed to ensure that applications selected for funding have the potential to generate substantial improvements in student achievement (and other key outcomes), and include well-articulated plans for the implementation and evaluation of the proposed projects. This notice includes selection criteria for both pre-applications and full applications for the FY 2013 Development competition. Applicants should review the selection criteria and submission instructions carefully to ensure their applications reflect this year's criteria.

The FY 2012 i3 Development competition was the first i3 competition that utilized a pre-application process, which was designed to decrease the burden on applicants and improve the responsiveness of the Department. Based on positive feedback from applicants and peer reviewers, and internal Department analyses, we believe that a pre-application process will again benefit applicants by requiring them to expend fewer resources in preparing their initial applications. We also believe the continued use of the pre-application process will be helpful for applicants whose proposals are judged to be less competitive, while also providing additional time for applicants that are judged to be more competitive to improve their full proposals based on peer review comments on their pre-applications. In addition, the simplified pre-application process may be particularly meaningful for applicants from LEAs or other organizations without dedicated or contract grant writers or similar resources. For all of these reasons, the Department will use a pre-application process again this year.

The pre-application and full application review processes will follow a similar review process as the 2012 i3 competition. Peer reviewers will read and score the shorter pre-application against an abbreviated set of selection criteria, and the applications rated highly in this process will be invited to submit full applications. However, this year, we have also decided to allow pre-applicants who are not specifically invited to submit a full application to choose whether to submit a full application.

An entity that submits a full application for a Development grant must include the following information in its full application: An estimate of the number of students to be served by the project; evidence of the applicant's ability to implement and appropriately evaluate the proposed project; and information about its capacity (e.g., qualified personnel, financial resources, and management capacity) to further develop and bring the project to a larger scale directly or through partners, either during or following the grant period, if positive results are obtained. We recognize that LEAs are not typically responsible for taking their practices, strategies, or programs to scale; however, all applicants can and should partner with others to disseminate and take their effective practices, strategies, and programs to scale.

The Department will screen pre- and full applications submitted for Development grants in accordance with the requirements in this notice, and will determine which applications have met the eligibility and other requirements in the 2013 i3 NFP. Peer reviewers will review all pre- and full applications for Development grants that are submitted by the established deadlines.

Applicants should note, however, that we may screen for eligibility at multiple points during the competition process, including before and after peer review; applicants that are determined ineligible will not receive a grant regardless of peer reviewer scores or comments. If we determine that a project proposed in a full Development grant application is not supported by evidence of promise or strong theory, does not demonstrate the required prior record of improvement, or does not meet any other eligibility requirement, the application will not be considered for funding.

Priorities: This competition includes eight absolute priorities. These priorities are from the 2013 i3 NFP.

Absolute Priorities: For FY 2013 and any subsequent year in which we make awards from the list of unfunded applicants from this competition, these priorities are absolute priorities. Under 34 CFR 75.105(c)(3) we consider only applications that meet one of these priorities.

Under this competition for Development grants, each of the eight absolute priorities constitutes its own funding category. The Secretary intends to award grants under each absolute priority for which applications of sufficient quality are submitted.

An applicant for a Development grant must choose one of the eight absolute priorities and one of the subparts under the chosen priority to address in its pre-application, and full application, if the applicant is invited to, or chooses to, submit a full application. Both pre-applications and full applications will be peer reviewed and scored; scores will be rank ordered by absolute priority, so it is essential that an applicant clearly identify the specific absolute priority and subpart that the proposed project addresses. It is also important to note that applicants who choose to submit an application under the absolute priority for Serving Rural Communities must identify an additional absolute priority and subpart. Regardless, the peer-reviewed scores for applications submitted under the Serving Rural Communities priority will be ranked with other applications under this priority, and not included in the ranking for the additional priority that they identified. This design helps us ensure that applicants under the Serving Rural Communities priority receive an “apples to apples” comparison with other rural applicants.

The absolute priorities are:

Absolute Priority 1—Improving the Effectiveness of Teachers or Principals

Projects addressing one of the following priority areas:

(a) Increasing the equitable access to effective teachers or principals for low-income and high-need students (as defined in this notice), which may include increasing the equitable distribution of effective teachers or principals for low-income and high-need students across schools.

(b) Extending highly effective teachers' reach to serve more students, including strategies such as new course designs, staffing models, technology platforms, or new opportunities for collaboration that allow highly effective teachers to reach more students, or approaches or tools that reduce administrative and other burden while maintaining or improving effectiveness.

Absolute Priority 2—Improving Low-Performing Schools

Projects addressing one of the following priority areas:

(a) Recruiting, developing, or retaining highly effective staff, specifically teachers, principals, or instructional leaders, to work in low-performing schools.

(b) Implementing programs, supports, or other strategies that improve students' non-cognitive abilities (e.g., motivation, persistence, or resilience) and enhance student engagement in learning or mitigate the effects of poverty, including physical, mental, or emotional health issues, on student engagement in learning.

Other Requirements Related to Priority 2

To meet this priority, a project must serve schools among (1) the lowest-performing schools in the State on academic performance measures; (2) schools in the State with the largest within-school performance gaps between student subgroups described in section 1111(b)(2) of the ESEA; or (3) secondary schools in the State with the lowest graduation rate over a number of years or the largest within-school gaps in graduation rates between student subgroups described in section 1111(b)(2) of the ESEA. Additionally, projects funded under this priority must complement the broader turnaround efforts of the school(s), LEA(s), or State(s) where the projects will be implemented.

Absolute Priority 3—Improving Science, Technology, Engineering, and Mathematics (STEM) Education

Projects addressing the following priority area:

(a) Redesigning STEM course content and instructional practices to engage students and increase student achievement (as defined in this notice).

Absolute Priority 4—Improving Academic Outcomes for Students With Disabilities

Projects addressing one of the following priority areas:

(a) Designing and implementing teacher evaluation systems that define and measure effectiveness of special education teachers and related service providers.

(b) Designing and implementing strategies that improve student achievement (as defined in this notice) for students with disabilities in inclusive settings, including strategies that improve learning and developmental outcomes (i.e., academic, social, emotional, or behavioral) and the appropriate transition from restrictive settings to inclusive settings or general education classes or programs, and appropriate strategies to prevent unnecessary suspensions and expulsions.

Absolute Priority 5—Improving Academic Outcomes for English Learners (ELs)

Projects addressing the following priority area:

(a) Aligning and implementing the curriculum and instruction used in grades 6-12 for language development and content courses to provide sufficient exposure to, engagement in, and acquisition of academic language and literacy practices necessary for preparing ELs to be college- and career-ready.

Absolute Priority 6—Improving Parent and Family Engagement

Projects addressing one of the following priority areas:

(a) Developing and implementing initiatives that train parents and families in the skills and strategies that will support their students in improving academic outcomes, including increased engagement and persistence in school.

(b) Developing tools or practices that provide students and parents with improved, ongoing access to and use of data and other information about students' progress and performance.

Absolute Priority 7—Effective Use of Technology

Projects addressing one of the following priority areas:

(a) Providing access to learning experiences that are personalized, adaptive, and self-improving in order to optimize the delivery of instruction to learners with a variety of learning needs.

(b) Developing and implementing technology-enabled strategies for teaching and learning concepts and content (e.g., systems thinking) that are difficult to teach using traditional approaches, such as models and simulations, collaborative virtual environments, or “serious games.”

Absolute Priority 8—Serving Rural Communities

Under this priority, we provide funding to projects addressing one of the absolute priorities established for the 2013 Development i3 competition and under which the majority of students to be served are enrolled in rural local educational agencies (as defined in this notice).

Definitions

These definitions are from the 2013 i3 NFP. We may apply these definitions in any year in which this program is in effect.

Note: This notice invites applications for Development grants. The following definitions apply to the three types of grants under the i3 program (Scale-up, Validation, or Development). Therefore, some of the definitions included in this section, primarily those related to demonstrations of evidence, may be more applicable to applications for Scale-up and Validation grants.

Consortium of schools means two or more public elementary or secondary schools acting collaboratively for the purpose of applying for and implementing an i3 grant jointly with an eligible nonprofit organization.

Evidence of promise means there is empirical evidence to support the theoretical linkage between at least one critical component and at least one relevant outcome presented in the logic model (as defined in this notice) for the proposed process, product, strategy, or practice. Specifically, evidence of promise means the following conditions are met:

(a) There is at least one study that is either a—

(1) Correlational study with statistical controls for selection bias;

(2) Quasi-experimental study (as defined in this notice) that meets the What Works Clearinghouse Evidence Standards with reservations;³ or

³ See What Works Clearinghouse Procedures and Standards Handbook (Version 2.1, September 2011), which can currently be found at the following link: http://ies.ed.gov/ncee/wwc/DocumentSum.aspx?sid=19.

(3) Randomized controlled trial (as defined in this notice) that meets the What Works Clearinghouse Evidence Standards with or without reservations;⁴ and

⁴ See What Works Clearinghouse Procedures and Standards Handbook (Version 2.1, September 2011), which can currently be found at the following link: http://ies.ed.gov/ncee/wwc/DocumentSum.aspx?sid=19.

(b) Such a study found a statistically significant or substantively important (defined as a difference of 0.25 standard deviations or larger), favorable association between at least one critical component and one relevant outcome presented in the logic model for the proposed process, product, strategy, or practice.

High-need student means a student at risk of educational failure or otherwise in need of special assistance and support, such as students who are living in poverty, who attend high-minority schools (as defined in this notice), who are far below grade level, who have left school before receiving a regular high school diploma, who are at risk of not graduating with a diploma on time, who are homeless, who are in foster care, who have been incarcerated, who have disabilities, or who are English learners.

High-minority school is defined by a school's LEA in a manner consistent with the corresponding State's Teacher Equity Plan, as required by section 1111(b)(8)(C) of the ESEA. The applicant must provide, in its i3 application, the definition(s) used.

High school graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA.

Highly effective principal means a principal whose students, overall and for each subgroup as described in section 1111(b)(3)(C)(xiii) of the ESEA (economically disadvantaged students, students from major racial and ethnic groups, migrant students, students with disabilities, students with limited English proficiency, and students of each gender), achieve high rates (e.g., one and one-half grade levels in an academic year) of student growth. Eligible applicants may include multiple measures, provided that principal effectiveness is evaluated, in significant part, based on student growth. Supplemental measures may include, for example, high school graduation rates; college enrollment rates; evidence of providing supportive teaching and learning conditions, support for ensuring effective instruction across subject areas for a well-rounded education, strong instructional leadership, and positive family and community engagement; or evidence of attracting, developing, and retaining high numbers of effective teachers.

Highly effective teacher means a teacher whose students achieve high rates (e.g., one and one-half grade levels in an academic year) of student growth. Eligible applicants may include multiple measures, provided that teacher effectiveness is evaluated, in significant part, based on student academic growth. Supplemental measures may include, for example, multiple observation-based assessments of teacher performance or evidence of leadership roles (which may include mentoring or leading professional learning communities) that increase the effectiveness of other teachers in the school or LEA.

Independent evaluation means that the evaluation is designed and carried out independent of, but in coordination with, any employees of the entities who develop a process, product, strategy, or practice and are implementing it.

Innovation means a process, product, strategy, or practice that improves (or is expected to improve) significantly upon the outcomes reached with status quo options and that can ultimately reach widespread effective usage.

Large sample means a sample of 350 or more students (or other single analysis units) who were randomly assigned to a treatment or control group, or 50 or more groups (such as classrooms or schools) that contain 10 or more students (or other single analysis units) and that were randomly assigned to a treatment or control group.

Logic model (also referred to as theory of action) means a well-specified conceptual framework that identifies key components of the proposed process, product, strategy, or practice (i.e., the active “ingredients” that are hypothesized to be critical to achieving the relevant outcomes) and describes the relationships among the key components and outcomes, theoretically and operationally.

Moderate evidence of effectiveness means one of the following conditions is met:

(a) There is at least one study of the effectiveness of the process, product, strategy, or practice being proposed that: Meets the What Works Clearinghouse Evidence Standards without reservations; ⁵ found a statistically significant favorable impact on a relevant outcome (as defined in this notice) (with no statistically significant and overriding unfavorable impacts on that outcome for relevant populations in the study or in other studies of the intervention reviewed by and reported on by the What Works Clearinghouse); and includes a sample that overlaps with the populations or settings proposed to receive the process, product, strategy, or practice.

⁵ See What Works Clearinghouse Procedures and Standards Handbook (Version 2.1, September 2011), which can currently be found at the following link: http://ies.ed.gov/ncee/wwc/DocumentSum.aspx?sid=19.

(b) There is at least one study of the effectiveness of the process, product, strategy, or practice being proposed that: Meets the What Works Clearinghouse Evidence Standards with reservations,⁶ found a statistically significant favorable impact on a relevant outcome (as defined in this notice) (with no statistically significant and overriding unfavorable impacts on that outcome for relevant populations in the study or in other studies of the intervention reviewed by and reported on by the What Works Clearinghouse); includes a sample that overlaps with the populations or settings proposed to receive the process, product, strategy, or practice; and includes a large sample (as defined in this notice) and a multi-site sample (as defined in this notice) (Note: Multiple studies can cumulatively meet the large and multi-site sample requirements as long as each study meets the other requirements in this paragraph).

⁶ See What Works Clearinghouse Procedures and Standards Handbook (Version 2.1, September 2011), which can currently be found at the following link: http://ies.ed.gov/ncee/wwc/DocumentSum.aspx?sid=19.

Multi-site sample means more than one site, where site can be defined as an LEA, locality, or State.

National level describes the level of scope or effectiveness of a process, product, strategy, or practice that is able to be effective in a wide variety of communities, including rural and urban areas, as well as with different groups (e.g., economically disadvantaged, racial and ethnic groups, migrant populations, individuals with disabilities, English learners, and individuals of each gender).

Nonprofit organization means an entity that meets the definition of “nonprofit” under 34 CFR 77.1(c), or an institution of higher education as defined by section 101(a) of the Higher Education Act of 1965, as amended.

Quasi-experimental design study means a study using a design that attempts to approximate an experimental design by identifying a comparison group that is similar to the treatment group in important respects. These studies, depending on design and implementation, can meet What Works Clearinghouse Evidence Standards with reservations ⁷ (they cannot meet What Works Clearinghouse Evidence Standards without reservations).

⁷ See What Works Clearinghouse Procedures and Standards Handbook (Version 2.1, September 2011), which can currently be found at the following link: ies.ed.gov/ncee/wwc/DocumentSum.aspx?sid=19.

Randomized controlled trial means a study that employs random assignment of, for example, students, teachers, classrooms, schools, or districts to receive the intervention being evaluated (the treatment group) or not to receive the intervention (the control group). The estimated effectiveness of the intervention is the difference between the average outcome for the treatment group and for the control group. These studies, depending on design and implementation, can meet What Works Clearinghouse Evidence Standards without reservations.⁸

⁸ See What Works Clearinghouse Procedures and Standards Handbook (Version 2.1, September 2011), which can currently be found at the following link: ies.ed.gov/ncee/wwc/DocumentSum.aspx?sid=19.

Regional level describes the level of scope or effectiveness of a process, product, strategy, or practice that is able to serve a variety of communities within a State or multiple States, including rural and urban areas, as well as with different groups (e.g., economically disadvantaged, racial and ethnic groups, migrant populations, individuals with disabilities, English learners, and individuals of each gender). For an LEA-based project to be considered a regional level project, a process, product, strategy, or practice must serve students in more than one LEA, unless the process, product, strategy, or practice is implemented in a State in which the State educational agency is the sole educational agency for all schools.

Relevant outcome means the student outcome or outcomes (or the ultimate outcome if not related to students) that the proposed project is designed to improve, consistent with the specific goals of the project and the i3 program.

Rural local educational agency means a local educational agency (LEA) that is eligible under the Small Rural School Achievement (SRSA) program or the Rural and Low-Income School (RLIS) program authorized under Title VI, Part B of the ESEA. Eligible applicants may determine whether a particular LEA is eligible for these programs by referring to information on the Department's Web site at www2.ed.gov/nclb/freedom/local/reap.html.

Strong evidence of effectiveness means that one of the following conditions is met:

(a) There is at least one study of the effectiveness of the process, product, strategy, or practice being proposed that: Meets the What Works Clearinghouse Evidence Standards without reservations; ⁹ found a statistically significant favorable impact on a relevant outcome (as defined in this notice) (with no statistically significant and overriding unfavorable impacts on that outcome for relevant populations in the study or in other studies of the intervention reviewed by and reported on by the What Works Clearinghouse); includes a sample that overlaps with the populations and settings proposed to receive the process, product, strategy, or practice; and includes a large sample (as defined in this notice) and a multi-site sample (as defined in this notice). (Note: multiple studies can cumulatively meet the large and multi-site sample requirements as long as each study meets the other requirements in this paragraph).

⁹ See What Works Clearinghouse Procedures and Standards Handbook (Version 2.1, September 2011), which can currently be found at the following link: http://ies.ed.gov/ncee/wwc/DocumentSum.aspx?sid=19.

(b) There are at least two studies of the effectiveness of the process, product, strategy, or practice being proposed, each of which: Meets the What Works Clearinghouse Evidence Standards with reservations; ¹⁰ found a statistically significant favorable impact on a relevant outcome (as defined in this notice) (with no statistically significant and overriding unfavorable impacts on that outcome for relevant populations in the studies or in other studies of the intervention reviewed by and reported on by the What Works Clearinghouse); includes a sample that overlaps with the populations and settings proposed to receive the process, product, strategy, or practice; and includes a large sample (as defined in this notice) and a multi-site sample (as defined in this notice).

¹⁰ See What Works Clearinghouse Procedures and Standards Handbook (Version 2.1, September 2011), which can currently be found at the following link: http://ies.ed.gov/ncee/wwc/DocumentSum.aspx?sid=19.

Strong theory means a rationale for the proposed process, product, strategy, or practice that includes a logic model (as defined in this notice).

Student achievement means—

(a) For grades and subjects in which assessments are required under ESEA section 1111(b)(3): (1) A student's score on such assessments and may include (2) other measures of student learning, such as those described in paragraph (b), provided they are rigorous and comparable across schools within an LEA.

(b) For grades and subjects in which assessments are not required under ESEA section 1111(b)(3): Alternative measures of student learning and performance such as student results on pre-tests, end-of-course tests, and objective performance-based assessments; student learning objectives; student performance on English language proficiency assessments; and other measures of student achievement that are rigorous and comparable across schools within an LEA.

Student growth means the change in student achievement (as defined in this notice) for an individual student between two or more points in time. An applicant may also include other measures that are rigorous and comparable across classrooms.

Program Authority: American Recovery and Reinvestment Act of 2009, Division A, Section 14007, Pub. L. 111-5.

Applicable Regulations: (a) The Education Department General Administrative Regulations (EDGAR) in 34 CFR parts 74, 75, 77, 79, 80, 81, 82, 84, 86, 97, 98, and 99. (b) The Education Department suspension and debarment regulations in 2 CFR part 3485. (c) The notice of final priorities, requirements, definitions, and selection criteria for this program, published in the Federal Register on [update date and citation later]

Note: The regulations in 34 CFR part 79 apply to all applicants except federally recognized Indian tribes.

Note: The regulations in 34 CFR part 86 apply to institutions of higher education only.

II. Award Information

Type of Award: Cooperative Agreements or discretionary grant awards.

Estimated Available Funds

The Administration has requested $150,000,000 for the Investing in Innovation program for FY 2013. The actual level of funding, if any, depends on final congressional action. However, we are inviting applications to allow enough time to complete the grant process if Congress appropriates funds for this program.

These estimated available funds are the total available for all three types of grants under the i3 program (i.e., Scale-up, Validation, and Development grants).

Contingent upon the availability of funds and the quality of the applications received, we may make additional awards in FY 2014 or later years from the list of unfunded applicants from this competition.

Estimated Range of Awards

Scale-up grants: Up to $20,000,000.

Validation grants: Up to $12,000,000.

Development grants: Up to $3,000,000.

Estimated Average Size of Awards

Scale-up grants: $19,000,000.

Validation grants: $11,500,000.

Development grants: $3,000,000.

Estimated Number of Awards

Scale-up grants: 0-2 awards.

Validation grants: 4-8 awards.

Development grants: 10-20 awards.

Note: The Department is not bound by any estimates in this notice.

Project Period: 36-60 months.

III. Eligibility Information

1. Innovations that Improve Achievement for High-Need Students: All grantees must implement practices that are designed to improve student achievement (as defined in this notice) or student growth (as defined in this notice), close achievement gaps, decrease dropout rates, increase high school graduation rates (as defined in this notice), or increase college enrollment and completion rates for high-need students (as defined in this notice).

2. Innovations that Serve Kindergarten-through-Grade-12 (K-12) Students: All grantees must implement practices that serve students who are in grades K-12 at some point during the funding period. To meet this requirement, projects that serve early learners (i.e., infants, toddlers, or preschoolers) must provide services or supports that extend into kindergarten or later years, and projects that serve postsecondary students must provide services or supports during the secondary grades or earlier.

3. Eligible Applicants: Entities eligible to apply for i3 grants include either of the following:

(a) An LEA.

(b) A partnership between a nonprofit organization and—

(1) One or more LEAs; or

(2) A consortium of schools.

Statutory Eligibility Requirements: Except as specifically set forth in the Note about Eligibility for an Eligible Applicant that Includes a Nonprofit Organization that follows, to be eligible for an award, an eligible applicant must—

(a)(1) Have significantly closed the achievement gaps between groups of students described in section 1111(b)(2) of the ESEA (economically disadvantaged students, students from major racial and ethnic groups, students with limited English proficiency, students with disabilities); or

(2) Have demonstrated success in significantly increasing student academic achievement for all groups of students described in that section;

(b) Have made significant improvements in other areas, such as high school graduation rates (as defined in this notice) or increased recruitment and placement of high-quality teachers or principals, as demonstrated with meaningful data;

(c) Demonstrate that it has established one or more partnerships with the private sector, which may include philanthropic organizations, and that organizations in the private sector will provide matching funds in order to help bring results to scale; and

(d) In the case of an eligible applicant that includes a nonprofit organization, provide in the application the names of the LEAs with which the nonprofit organization will partner, or the names of the schools in the consortium with which it will partner. If an eligible applicant that includes a nonprofit organization intends to partner with additional LEAs or schools that are not named in the application, it must describe in the application the demographic and other characteristics of these LEAs and schools and the process it will use to select them.

Note: An entity submitting a full application should provide, in Appendix C, under “Other Attachments Form,” of its full application, information addressing the eligibility requirements described in this section. An applicant must provide, in the full application, sufficient supporting data or other information to allow the Department to determine whether the applicant has met the eligibility requirements. If the Department determines that an applicant has provided insufficient information in its full application, the applicant will not have an opportunity to provide additional information.

Note: Instructions for the pre-application will be available on the i3 Web site. Entities invited to submit a full application will receive instructions about the full application package.

Note about LEA Eligibility: For purposes of this program, an LEA is an LEA located within one of the 50 States, the District of Columbia, or the Commonwealth of Puerto Rico.

Note about Eligibility for an Eligible Applicant that Includes a Nonprofit Organization: The authorizing statute specifies that an eligible applicant that includes a nonprofit organization meets the requirements in paragraphs (a) and (b) of the eligibility requirements for this program if the nonprofit organization has a record of significantly improving student achievement, attainment, or retention. For an eligible applicant that includes a nonprofit organization, the nonprofit organization must demonstrate that it has a record of significantly improving student achievement, attainment, or retention through its record of work with an LEA or schools. Therefore, an eligible applicant that includes a nonprofit organization does not necessarily need to include as a partner for its i3 grant an LEA or a consortium of schools that meets the requirements in paragraphs (a) and (b) of the eligibility requirements in this notice.

In addition, the authorizing statute specifies that an eligible applicant that includes a nonprofit organization meets the requirements of paragraph (c) of the eligibility requirements in this notice if the eligible applicant demonstrates that it will meet the requirement for private-sector matching.

4. Cost Sharing or Matching: To be eligible for an award, an applicant must demonstrate that one or more private-sector organizations, which may include philanthropic organizations, will provide matching funds in order to help bring project results to scale. An eligible applicant must obtain matching funds, or in-kind donations, equal to at least 15 percent of its Federal grant award. The highest-rated eligible applicants must submit evidence of 50 percent of the required private-sector matching funds following the peer review of full applications. A Federal i3 award will not be made unless the applicant provides adequate evidence that the 50 percent of the required private-sector match has been committed or the Secretary approves the eligible applicant's request to reduce the matching-level requirement. An applicant must provide evidence of the remaining 50 percent of required private-sector match six months after the project start date.

The Secretary may consider decreasing the matching requirement on a case-by-case basis, and only in the most exceptional circumstances. An eligible applicant that anticipates being unable to meet the full amount of the private-sector matching requirement must include in its application a request that the Secretary reduce the matching-level requirement, along with a statement of the basis for the request.

Note: An entity does not need to include a request for a reduction of the matching-level requirement in its pre-application. However, an applicant that does not provide a request for a reduction of the matching-level requirement in its full application may not submit that request at a later time.

5. Other: The Secretary establishes the following requirements for the i3 program. These requirements are from the 2013 i3 NFP. We may apply these requirements in any year in which this program is in effect.

• Evidence Standards: To be eligible for an award, an application for a Development grant must be supported by evidence of promise (as defined in this notice) or strong theory (as defined in this notice). (2013 i3 NFP) Applicants must identify in Appendix D and the Applicant Information Sheet if their evidence is supported by evidence of promise or strong theory.

Note: An entity that submits a full application should provide, in Appendix D, under the “Other Attachments Form,” of its application, information addressing the required evidence standards. An applicant must either ensure that all evidence is available to the Department from publicly available sources and provide links or other guidance indicating where it is available; or, in the full application, include copies of evidence in Appendix D. If the Department determines that an applicant has provided insufficient information, the applicant will not have an opportunity to provide additional information at a later time. Applicants must identify in Appendix D and the Applicant Information Sheet if their evidence is supported by evidence of promise or strong theory.

• Funding Categories: An applicant will be considered for an award only for the type of i3 grant (i.e., Development, Validation, and Scale-up grants) for which it applies. An applicant may not submit an application for the same proposed project under more than one type of grant. (2013 i3 NFP)

• Limit on Grant Awards: (a) No grantee may receive more than two new grant awards of any type under the i3 program in a single year; (b) In any two-year period, no grantee may receive more than one new Scale-up or Validation grant; and (c) No grantee may receive in a single year new i3 grant awards that total an amount greater than the sum of the maximum amount of funds for a Scale-up grant and the maximum amount of funds for a Development grant for that year. For example, in a year when the maximum award value for a Scale-up grant is $25 million and the maximum award value for a Development grant is $5 million, no grantee may receive in a single year new grants totaling more than $30 million. (2013 i3 NFP)

• Subgrants: In the case of an eligible applicant that is a partnership between a nonprofit organization and (1) one or more LEAs or (2) a consortium of schools, the partner serving as the applicant and, if funded, as the grantee, may make subgrants to one or more entities in the partnership. (2013 i3 NFP)

• Evaluation: The grantee must conduct an independent evaluation (as defined in this notice) of its project. This evaluation must estimate the impact of the i3-supported practice (as implemented at the proposed level of scale) on a relevant outcome (as defined in this notice). The grantee must make broadly available digitally and free of charge, through formal (e.g., peer-reviewed journals) or informal (e.g., newsletters) mechanisms, the results of any evaluations it conducts of its funded activities.

In addition, the grantee and its independent evaluator must agree to cooperate with any technical assistance provided by the Department or its contractor and comply with the requirements of any evaluation of the program conducted by the Department. This includes providing to the Department, within 100 days of a grant award, an updated comprehensive evaluation plan in a format and using such tools as the Department may require. Grantees must update this evaluation plan at least annually to reflect any changes to the evaluation. All of these updates must be consistent with the scope and objectives of the approved application. (2013 i3 NFP)

• Communities of Practice: Grantees must participate in, organize, or facilitate, as appropriate, communities of practice for the i3 program. A community of practice is a group of grantees that agrees to interact regularly to solve a persistent problem or improve practice in an area that is important to them. (2013 i3 NFP)

• Management Plan: Within 100 days of a grant award, the grantee must provide an updated comprehensive management plan for the approved project in a format and using such tools as the Department may require. This management plan must include detailed information about implementation of the first year of the grant, including key milestones, staffing details, and other information that the Department may require. It must also include a complete list of performance metrics, including baseline measures and annual targets. The grantee must update this management plan at least annually to reflect implementation of subsequent years of the project. (2013 i3 NFP)

IV. Application and Submission Information

1. Address to Request Application Package: You can obtain a pre-application package via the Internet or from the Education Publications Center (ED Pubs). To obtain a copy via the Internet, use the following address: http://www2.ed.gov/programs/innovation/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call the Federal Relay Service (FRS), toll free, at 1-877-576-7734.

You can contact ED Pubs at its Web site, also: www.EDPubs.gov or at its email address: edpubs@inet.ed.gov.

If you request a pre-application from ED Pubs, be sure to identify this program or competition as follows: CFDA number 84.411P.

Note: The full application package will be made available to entities invited to submit a full application and additional information will be available on the i3 Web site.

2. Content and Form of Application Submission: Requirements concerning the content of an application, together with the forms you must submit, are in the application package for this competition.

Deadline for Notice of Intent to Submit Pre-Application: April 16, 2013.

We will be able to develop a more efficient process for reviewing grant applications if we know the approximate number of applicants that intend to apply for funding under this competition. Therefore, the Secretary strongly encourages each potential applicant to notify us of the applicant's intent to submit a pre-application by completing a web-based form. When completing this form, applicants will provide (1) the applicant organization's name and address and (2) the one absolute priority the applicant intends to address. Applicants may access this form online at http://go.usa.gov/2KeF. Applicants that do not complete this form may still submit a pre-application. Page Limit: For the pre-application, the project narrative is where you, the applicant, address the selection criteria that reviewers use to evaluate your pre-application. For the full application, the project narrative (Part III of the application) is where you, the applicant, address the selection criteria that reviewers use to evaluate your full applications.

Pre-Application page limit: Applicants should limit the pre-application narrative to no more than seven pages.

Full-Application page limit: Applicants submitting a full application should limit the application narrative [Part III] for a Development application to no more than 25 pages. Applicants are also strongly encouraged not to include lengthy appendices for the full application that contain information that could not be included in the narrative. Aside from the required forms, applicants should not include appendices in their pre-applications. Applicants for both pre- and full applications should use the following standards:

• A “page” is 8.5″ x 11″, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit for the full application does not apply to Part I, the cover sheet; Part II, the budget section, including the narrative budget justification; Part IV, the assurances and certifications; or the one-page abstract, the resumes, the bibliography, or the letters of support for the full application. However, the page limit does apply to all of the application narrative section [Part III] of the full application.

Submission of Proprietary Information

Given the types of projects that may be proposed in applications for the i3 program, some applications may include proprietary information as it relates to confidential commercial information. Confidential commercial information is defined as information the disclosure of which could reasonably be expected to cause substantial competitive harm. Upon submission, applicants, in both pre-applications and full applications, should identify any information contained in their application that they consider to be confidential commercial information. Consistent with the process followed in the prior i3 competitions, we plan on posting the project narrative section of funded Development applications on the Department's Web site. Identifying proprietary information in the submitted application will help facilitate this public disclosure process. Applicants are encouraged to identify only the specific information that the applicant considers to be proprietary and list the page numbers on which this information can be found in the appropriate Appendix section, under “Other Attachments Form,” of their applications. In addition to identifying the page number on which that information can be found, eligible applicants will assist the Department in making determinations on public release of the application by being as specific as possible in identifying the information they consider proprietary. Please note that, in many instances, identification of entire pages of documentation would not be appropriate.

3. Submission Dates and Times:

Pre-Applications Available: March 29, 2013.

Deadline for Notice of Intent to Submit Pre-Application: April 16, 2013.

Informational Meetings: The i3 program intends to hold meetings designed to provide technical assistance to interested applicants for all three types of grants. Detailed information regarding these meetings will be provided on the i3 Web site at http://www2.ed.gov/programs/innovation/index.html.

Deadline for Transmittal of Pre-Applications: April 26, 2013.

Deadline for Transmittal of Full Applications: The Department will announce on its Web site the deadline date for transmission of full applications. Under the pre-application process, peer reviewers will read and score the shorter pre-application against an abbreviated set of selection criteria, and entities that submit highly rated pre-applications will be invited to submit full applications. Other pre-applicants may choose to submit a full application.

Pre- and full applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review of Full Applications: 60 calendar days after the deadline date for transmittal of full applications.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM),the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements:

Applications for grants under the i3 program must be submitted electronically unless you qualify for an exception to this requirement in accordance with the instructions in this section.

a. Electronic Submission of Applications

Applications (both pre- and full applications) for grants under the i3 program, pre application CFDA 84.411P and full application CFDA number 84.411C (Development grants), must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the i3 program at www.Grants.gov. You must search for the downloadable application package for this competition by the CFDA number. Do not include the CFDA number's alpha suffix in your search (e.g., search for 84.411, not 84.411C).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Carol Lyons, U.S. Department of Education, 400 Maryland Avenue SW., Room 4W203, Washington, DC 20202-5930. FAX: (202) 205-5631.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.411C), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (84.411C), 550 12th Street SW., Room 7041, Potomac Center Plaza, Washington, DC 20202-4260. The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: This competition has separate selection criteria for pre-applications and full applications. The selection criteria for the Development competition are from the 2013 i3 NFP and from 34 CFR 75.210, and are as follows:

The points assigned to each criterion are indicated in the parenthesis next to the criterion. An applicant may earn up to a total of 20 points based on the selection criteria for the pre-application. An applicant may earn up to a total of 100 points based on the selection criteria for the full application.

Note: In responding to the selection criteria, applicants for both the pre- and full applications should keep in mind that peer reviewers may consider only the information provided in the written application when scoring and commenting on the application. Therefore, applicants should draft their responses with the goal of helping peer reviewers understand:

• What the applicant is proposing to do, including the single absolute priority under which the applicant intends the application to be reviewed;

• How the proposed project will improve upon existing products, processes, or strategies for addressing similar needs;

• What the outcomes of the project will be if it is successful; and

• What procedures are in place for ensuring feedback and continuous improvement in the operation of the proposed project.

Selection Criteria for the Development Grant Pre-Application

A. Significance (Up to 10 Points)

In determining the significance of the project, the Secretary considers the following factors:

(1) The extent to which the proposed project would implement a novel approach as compared with what has been previously attempted nationally. (2013 i3 NFP)

(2) The potential contribution of the proposed project to the development and advancement of theory, knowledge, and practices in the field of study. (34 CFR 75.210)

Note: In responding to this criterion, the Secretary encourages applicants to address how their project is unique and how the project would move the field forward (as opposed to affecting only the entities or individuals being served with grant funds).

B. Quality of Project Design (Up to 10 Points)

In determining the quality of the proposed project design, the Secretary considers the following factors:

(1) The extent to which the proposed project addresses the absolute priority the applicant is seeking to meet. (2013 i3 NFP)

(2) The clarity and coherence of the project goals, including the extent to which the proposed project articulates an explicit plan or actions to achieve its goals (e.g., a fully developed logic model of the proposed project). (2013 i3 NFP)

Note: In responding to this criterion, the Secretary encourages applicants to describe what the applicant proposes to do in the proposed project and how the applicant will address the absolute priority for which it submits an application.

Selection Criteria for the Development Grant Full Application

A. Significance (Up to 35 Points)

In determining the significance of the project, the Secretary considers the following factors:

(1) The extent to which the proposed project would implement a novel approach as compared with what has been previously attempted nationally. (2013 i3 NFP)

(2) The potential contribution of the proposed project to the development and advancement of theory, knowledge, and practices in the field of study. (34 CFR 75.210)

(3) The extent to which the proposed project will substantially improve on the outcomes achieved by other practices, such as through better student outcomes, lower cost, or accelerated results. (2013 i3 NFP)

Note: In responding to this criterion, the Secretary encourages applicants to explain what is unique about their proposed project. Also, the Secretary encourages applicants to explain how their proposed project fits into existing national and international theory, knowledge, or practice, and how it will serve as an exemplar for new practices in the field (as opposed to only benefitting the entities or individuals being served with grant funds). Additionally, the Secretary encourages applicants to quantify the impact of their proposed project if it is successful, and explain why the applicant expects the proposed project to have the described impact.

B. Quality of the Project Design (Up to 25 Points)

In determining the quality of the proposed project design, the Secretary considers the following factors:

(1) The extent to which the proposed project addresses the absolute priority the applicant is seeking to meet. (2013 i3 NFP)

(2) The clarity and coherence of the project goals, including the extent to which the proposed project articulates an explicit plan or actions to achieve its goals (e.g., a fully developed logic model of the proposed project). (2013 i3 NFP)

(3) The clarity, completeness, and coherence of the project goals, and whether the application includes a description of project activities that constitute a complete plan for achieving those goals, including the identification of potential risks to project success and strategies to mitigate those risks. (2013 i3 NFP)

Note: In responding to this criterion, the Secretary encourages applicants to address what activities the applicant will undertake in its proposed project, how the applicant will do it, and how the applicant's proposed project addresses the absolute priority and the subpart that it seeks to meet.

C. Quality of the Management Plan (Up to 15 Points)

In determining the quality of the management plan and personnel for the proposed project, the Secretary considers the following factors:

(1) The extent to which the management plan articulates key responsibilities and well-defined objectives, including the timelines and milestones for completion of major project activities, the metrics that will be used to assess progress on an ongoing basis, and annual performance targets the applicant will use to monitor whether the project is achieving its goals. (2013 i3 NFP)

(2) The extent of the demonstrated commitment of any key partners or evidence of broad support from stakeholders whose participation is critical to the project's long-term success. (2013 i3 NFP)

(3) The adequacy of procedures for ensuring feedback and continuous improvement in the operation of the proposed project. (34 CFR 75.210)

Note: In responding to this criterion, the Secretary encourages applicants to address how the project team will evaluate the success or challenges of the project and use that feedback to make improvements to the project, and the role of key partners and their impact on the long-term success of the project.

D. Personnel (Up to 10 Points)

In determining the quality and personnel for the proposed project, the Secretary considers the following factor:

(1) The adequacy of the project's staffing plan, particularly for the first year of the project, including the identification of the project director and, in the case of projects with unfilled key personnel positions at the beginning of the project, that the staffing plan identifies how critical work will proceed. (2013 i3 NFP)

Note: In responding to this criterion, the Secretary encourages applicants to address how the team's prior experiences have prepared them for implementing the proposed project successfully.

E. Quality of Project Evaluation (Up to 15 Points)

In determining the quality of the project evaluation to be conducted, the Secretary considers the following factors:

(1) The clarity and importance of the key questions to be addressed by the project evaluation, and the appropriateness of the methods for how each question will be addressed. (2013 i3 NFP)

(2) The extent to which the evaluation plan includes a clear and credible analysis plan, including a proposed sample size and minimum detectable effect size that aligns with the expected project impact, and an analytic approach for addressing the research questions. (2013 i3 NFP)

(3) The extent to which the evaluation plan clearly articulates the key components and outcomes of the project, as well as a measureable threshold for acceptable implementation. (2013 i3 NFP)

Note: In responding to this criterion, the Secretary encourages applicants to describe the key evaluation questions and address how the proposed evaluation methodologies will allow the project to answer those questions. This may include whether the evaluation would produce information about the effectiveness of the proposed project with the specific student populations being served with grant funds. Further, the Secretary encourages applicants to identify what implementation and performance data the evaluation will generate and how the evaluation will provide data during the period to help indicate whether the project is on track to meet its goals.

We encourage eligible applicants to review the following technical assistance resources on evaluation:

(1) What Works Clearinghouse Procedures and Standards Handbook: http://ies.ed.gov/ncee/wwc/references/idocviewer/doc.aspx?docid=19&tocid=1; and (2) IES/NCEE Technical Methods papers: http://ies.ed.gov/ncee/tech_methods/.

2. Review and Selection Process: In order to receive an i3 Development grant, an entity must submit a pre-application. The pre-application will be reviewed and scored by peer reviewers using the two selection criteria established in this notice. We will inform the entities that submitted pre-applications of the results of the peer review process. Entities with highly rated pre-applications will be invited to submit full applications. Other pre-applicants may choose to submit a full application. Scores received on pre-applications will not carry over to the review of the full application.

As described earlier in this notice, before making awards, we will screen applications submitted in accordance with the requirements in this notice to determine which applications have met eligibility and other statutory requirements. This screening process may occur at various stages of the pre-application and full application processes; applicants that are determined ineligible will not receive a grant, regardless of peer reviewer scores or comments.

For the pre- and full application review process, we will use independent peer reviewers with varied backgrounds and professions including pre-kindergarten-12 teachers and principals, college and university educators, researchers and evaluators, social entrepreneurs, strategy consultants, grant makers and managers, and others with education expertise. All reviewers will be thoroughly screened for conflicts of interest to ensure a fair and competitive review process.

Peer reviewers will read, prepare a written evaluation, and score the assigned pre-applications and full applications, using the respective selection criteria provided in this notice. For Development pre-applications, peer reviewers will review and score the applications based on the two selection criteria for pre-applications. For full applications submitted for Development grants, peer reviewers will review and score the applications based on all five selection criteria.

We remind potential applicants that, in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

Finally, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: The overall purpose of the i3 program is to expand the implementation of, and investment in, innovative practices that are demonstrated to have an impact on improving student achievement or student growth for high-need students. We have established several performance measures for the i3 Development grants.

Short-term performance measures: (1) The percentage of grantees whose projects are being implemented with fidelity to the approved design; (2) the percentage of programs, practices, or strategies supported by a Development grant with ongoing evaluations that provide evidence of their promise for improving student outcomes; (3) the percentage of programs, practices, or strategies supported by a Development grant with ongoing evaluations that are providing high-quality implementation data and performance feedback that allow for periodic assessment of progress toward achieving intended outcomes; and (4) the cost per student actually served by the grant.

Long-term performance measures: (1) The percentage of programs, practices, or strategies supported by a Development grant with a completed evaluation that provides evidence of their promise for improving student outcomes; (2) the percentage of programs, practices, or strategies supported by a Development grant with a completed evaluation that provides information about the key elements and approach of the project so as to facilitate further development, replication, or testing in other settings; and (3) the cost per student for programs, practices, or strategies that were proven promising at improving educational outcomes for students.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Carol Lyons, U.S. Department of Education, 400 Maryland Avenue SW., Room 4W203, Washington, DC 20202-5930. Telephone: (202) 453-7122. FAX: (202) 205-5631 or by email: i3@ed.gov.

If you use a TDD or a TTY, call the FRS, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: March 21, 2013.
James H. Shelton, III,
Assistant Deputy Secretary for Innovation and Improvement.

[FR Doc. 2013-07003 Filed 3-26-13; 8:45 am]

BILLING CODE 4000-01-P